DEPARTMENT OF COMMERCE

Foreign-Trade Zones Board

[Order No. 1513]

Approval of Request For Manufacturing Authority (Vacuum Cleaner Products), Foreign-Trade Zone 68, Electrolux Home Care Products Ltd.

Pursuant to its authority under the Foreign-Trade Zones Act of June 18, 1934, as amended (19 U.S.C. 81a-81u), the Foreign-Trade Zones Board (the Board) adopts the following Order:

WHEREAS, the City of El Paso, grantee of Foreign-Trade Zone (FTZ) 68, has requested authority under § 400.32(b)(2) of the Board's regulations on behalf of Electrolux Home Care Products Ltd. to conduct vacuum cleaner products manufacturing under zone procedures within Site 2 of FTZ 68 in El Paso, Texas (FTZ Docket 43-2006, filed 11/7/06);

WHEREAS, notice inviting public comment has been given in the Federal Register (71 FR 66500, 11/15/06); and,

WHEREAS, the Board adopts the findings and recommendations of the examiner's report, and finds that the requirements of the FTZ Act and the Board's regulations are satisfied, and that approval of the application is in the public interest;

NOW, THEREFORE, the Board hereby grants authority for the manufacture of vacuum cleaner products within Site 2 of FTZ 68, as described in the application and the Federal Register notice, subject to the FTZ Act and the Board's regulations, including Section 400.28.

Signed at Washington, DC, this 8th day of June 2007.

David M. Spooner,
Assistant Secretary of Commerce For Import Administration,Alternate Chairman Foreign-Trade Zones Board.

Attest:

Pierre V. Duy,
Acting Executive Secretary.

[FR Doc. E7-11938 Filed 6-19-07; 8:45 am]

BILLING CODE 3510-DS-S